DEPARTMENT OF HOMELAND SECURITY

Coast Guard

33 CFR Part 100

[Docket No. USCG-2021-0117]

Special Local Regulations; Motus Myrtle Beach Triathlon, Myrtle Beach, SC

AGENCY: Coast Guard, Department of Homeland Security (DHS).

ACTION: Notice of enforcement of regulation.

SUMMARY: The Coast Guard will enforce special local regulations for the Motus Myrtle Beach Triathlon on April 11, 2021 for 8:00 a.m. to 9:00 a.m. This action is necessary to ensure the safety of life on navigable waters of the United States during the Motus Myrtle Beach Triathlon Swim event. Our regulation for marine events within the Seventh Coast Guard District identifies the regulated area for this event in Myrtle Beach, SC. During the enforcement period, no person or vessel may enter, transit through, anchor in, or remain within the designated area unless authorized by the Captain of the Port Charleston (COTP) or a designated representative.

DATES: The regulations in 33 CFR 100.704, Table 1 to § 100.704, Item No. 3, will be enforced from 8:00 a.m. to 9:00 a.m. on April 11, 2021.

FOR FURTHER INFORMATION CONTACT: If you have questions about this notice of enforcement, call or email LT Chad Ray, Sector Charleston Office of Waterways Management, Coast Guard; telephone (843) 740-3184, email Chad.L.Ray@uscg.mil.

SUPPLEMENTARY INFORMATION: The Coast Guard will enforce 33 CFR 100.704, Table 1 to § 100.704, Item No. 3, for the Motus Myrtle Beach Triathlon Swim regulated area from 8 a.m. to 9 a.m. on April 11, 2021. This action is being taken to provide for the safety of life on navigable waterways during this swim event. Our regulation for marine events within the Captain of the Port Charleston, § 100.704, specifies the locations of the regulated areas for the Motus Myrtle Beach Triathlon Swim which encompasses portions of the Atlantic Intracoastal Waterway in Myrtle Beach, SC. During the enforcement periods, as reflected in § 100.704, if you are the operator of a vessel in the regulated area you must comply with directions from the Patrol Commander or any Official Patrol displaying a Coast Guard ensign.

Dated: March 17, 2021.
J.D. Cole,
Captain, U.S. Coast Guard, Captain of the Port Charleston.

[FR Doc. 2021-05882 Filed 3-23-21; 8:45 am]

BILLING CODE 9110-04-P